DEPARTMENT OF TRANSPORTATION

National Highway Traffic Safety Administration

[Docket No. NHTSA-2017-0066]

Federal Advisory Committee National Emergency Medical Services Advisory Council (NEMSAC) and Federal Interagency Committee on Emergency Medical Services (FICEMS); Notice of Meeting

AGENCY: National Highway Traffic Safety Administration (NHTSA), U.S. Department of Transportation (DOT).

ACTION: Notice of meeting.

SUMMARY: The NHTSA announces meetings of NEMSAC and FICEMS to be held consecutively in the Metropolitan Washington, DC area. This notice announces the date, time, and location of the meetings, which will be open to the public, as well as opportunities for public input to the NEMSAC and FICEMS. The purpose of NEMSAC, a nationally recognized council of emergency medical services representatives and consumers, is to advise and consult with DOT and the FICEMS on matters relating to emergency medical services (EMS). The purpose of FICEMS is to ensure coordination among Federal agencies supporting EMS and 9-1-1 systems.

DATES: The NEMSAC meeting will be held on August 14, 2017 from 8:30 a.m. to 4:00 p.m. EDT, and on August 15, 2017 from 8:30 a.m. to 12:00 Noon EDT. A public comment period will take place on August 14, 2017 between 11:15 a.m. and 11:45 a.m. EDT and August 15, 2017 between 10:45 a.m. and 11:15 a.m. EDT. Some NEMSAC subcommittees will meet in the same location on Monday, August 14, 2017 from 4 p.m. to 5 p.m. EDT. Written comments for the NEMSAC from the public must be received no later than August 7, 2017.

The FICEMS meeting will be held on August 15, 2017 from 1:00 p.m. to 3:00 p.m. EDT. A public comment period will take place on August 15, 2017 between approximately 2:40 and 2:55 p.m. EDT. Written comments for FICEMS from the public must be received no later than August 1, 2017.

ADDRESSES: The meetings will be held at the Capital Hilton, 1001 16th Street NW., Washington, DC 20036. Attendees should plan to arrive 10-15 minutes early.

FOR FURTHER INFORMATION CONTACT: Gamunu Wijetunge, U.S. Department of Transportation, Office of Emergency Medical Services, 1200 New Jersey Avenue SE., NTI-140, Washington, DC 20590, Gamunu.Wijetunge@dot.gov or 202-493-2793.

SUPPLEMENTARY INFORMATION: Notice of the NEMSAC meeting is given under the Federal Advisory Committee Act, Public Law 92-463, as amended (5 U.S.C. App.). The NEMSAC is authorized under Section 31108 of the Moving Ahead with Progress in the 21st Century Act of 2012. The FICEMS is authorized under Section 10202 of the Safe, Accountable, Flexible, Efficient Transportation Equity Act: A Legacy for Users (SAFETEA-LU).

Tentative Agenda of the National EMS Advisory Council Meeting

The tentative NEMSAC agenda includes the following:

Monday, August 14, 2017 (8:30 a.m. to 11:45 a.m. EDT)

(1) Opening Remarks/Approval of December 1-2, 2016 Meeting Minutes

(2) Federal Liaison Update—Reports and Updates from the Departments of Transportation, Homeland Security, and Health & Human Services

(3) Disclosure of Conflicts of Interests by Members

(4) NEMSAC Committee Updates and Discussion on Pending Advisories

a. Innovative Practices of EMS Workforce

b. Patient Care, Quality Improvement and General Safety

c. Provider and Community Education

(5) Public Comment Period (11:15 a.m. to 11:45 a.m. EDT)

(6) Recess for Lunch—11:45 a.m. to 1:15 p.m. EDT

(7) Reconvene for 3 Special Presentations—1:15 p.m. to 2:45 p.m. EDT (~1/2 hour each)

a. Doug Kupas, M.D.—“Lights & Siren Use by EMS: Above All Do No Harm”

b. Daniel Patterson, Ph.D.—“Fatigue in EMS Guidelines”

c. FDA (TBD)—Pharmaceutical/Medication Shortages

(8) Discussion on NEMSAC 2015-2017 Report—Review of two year's work

As needed, NEMSAC Committees will meet in Breakout Sessions from 4 p.m.-5 p.m.—(on-site and open to the public)

Tuesday, August 15, 2017 (8:30 a.m. to 12:00 Noon, EDT)

(1) Reconvene and Introductions (8:30 a.m.-8:45 a.m. EDT)

(2) Special Comments from Designated Federal Official (DFO), Chair and Vice Chair on last meeting of current 2015-2017 NEMSAC Membership and Update on Application Process for 2017-2019 and estimated timeline for Appointments. (8:45 a.m. to 9:30 a.m. EDT)

(3) NEMSAC Committee Reports/Updates/Discussion (9:30 a.m.-10:30 a.m. EDT)

(4) Public Comment Period (10:45 a.m. to 11:15 a.m. EDT)

(5) NEMSAC Action on Committee Advisories and NEMSAC 2015-2017 Report

(6) NEMSAC Next Steps and Wrap Up, and Adjourn (11:45 a.m.-12 Noon EDT)

Tentative Agenda of the Federal Interagency Committee on EMS Meeting

Tuesday, August 15, 2017 (1:00 p.m. to 3:00 p.m. EST)

(1) Welcome, Introductions and Opening Remarks from Dave Fluty, Chair

(2) Review and Approval of Executive Summary of December 2, 2016 Meeting

(3) Update from the NEMSAC (Vince Robbins, NEMSAC Chair)

(4) EMS Agenda 2050

(5) Anthrax Vaccination for First Responders

(6) Opioid Overdose Epidemic Update

(7) NEMSIS Update

(8) NIH Research Update

(9) Technical Working Group (TWG) Committee Reports

a. Evidence-based Practice and Quality

b. EMS Data Standardization and Exchange

c. EMS Systems Integration

d. Safety, Education, and Workforce

(10) Other Emerging Issues in EMS from Federal Agencies and Agency Updates

(11) Public Comment Period (approximately 2:40 p.m. EST)

(12) Adjourn

Registration Information: These meetings will be open to the public; however, pre-registration is requested. Individuals wishing to attend must register online no later than August 7, 2017. For NEMSAC please register at: http://www.cvent.com/d/v5qrzn/4W. For assistance with NEMSAC registration, please contact Susan McHenry at Susan.McHenry@dot.gov or 202-366-6540. For FICEMS please register at: http://www.cvent.com/d/p5qr2s/4W. For assistance with FICEMS registration, please contact Gamunu Wijetunge at Gamunu.Wijetunge@dot.gov or 202-493-2793. There will not be a teleconference option for these meetings.

Public Comment: Members of the public are encouraged to comment directly to the NEMSAC and FICEMS during designated public comment periods. In order to allow as many people as possible to speak, speakers are requested to limit their remarks to 5 minutes. Written comments from members of the public will be distributed to NEMSAC or FICEMS members at the meeting and should reach the NHTSA Office of EMS no later than August 7, 2017. Written comments may be submitted by either one of the following methods: (1) You may submit comments by email: nemsac@dot.gov or ficems@dot.gov or (2) you may submit comments by fax: (202) 366-7149.

A final agenda as well as meeting materials will be available to the public online through www.EMS.gov on or before August 7, 2017.

Authority: 44 U.S.C. 35069(c)(2)(A).

Issued in Washington, DC, on July 27, 2017.
Jeffrey Michael,
Associate Administrator, Research and Program Development.

[FR Doc. 2017-16186 Filed 8-1-17; 8:45 am]

BILLING CODE 4910-59-P